DEPARTMENT OF TRANSPORTATION

National Highway Traffic Safety Administration

[U.S. DOT Docket Number NHTSA-2014-0049]

Reports, Forms, and Record Keeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections. This document describes collection of information for which NHTSA intends to seek OMB approval.

DATES: Comments must be received on or before July 11, 2014.

ADDRESSES: You may submit comments identified by DOT Docket ID Number NHTSA-2014-0049 using any of the following methods:

• Electronic submissions: Go to http://www.regulations.gov. Follow the on-line instructions for submitting comments.

• Mail: Docket Management Facility, M-30, U.S. Department of Transportation, 1200 New Jersey Avenue SE., West Building Ground Floor, Room W12-140, Washington, DC 20590.

• Hand Delivery: West Building Ground Floor, Room W12-140, 1200 New Jersey Avenue SE., Washington, DC, between 9 a.m. and 5 p.m., Monday through Friday, except Federal holidays.

• Fax: 1-202-493-2251.

Instructions: Each submission must include the Agency name and the Docket number for this Notice. Note that all comments received will be posted without change to http://www.regulations.gov including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; pages 19477-78) or you may visit http://dot.gov/privacy.html or http://Docketslnfo.dot.gov.

FOR FURTHER INFORMATION CONTACT: Gary R. Toth, Office of Data Acquisitions (NVS-410), Room W53-505, 1200 New Jersey Avenue SE., Washington, DC 20590. Mr. Toth's telephone number is (202) 366-5378 and his email address is gary.toth@dot.gov.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5CFR 1320.8(d)), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected;

(iv) how to minimize the burden of the collection of information on those who are to respond including the use of appropriate automated, electronic, mechanical, or other technological collection techniques or other forms of information technology, e.g. permitting electronic submission of responses.

In compliance with these requirements, NHTSA asks for public comments on the following proposed collections of information:

Title: Crash Investigation Sampling System (CISS).

Type of Request: Collection of motor vehicle crash data.

OMB Control Number: None.

Affected Public: Passenger Motor Vehicle Operators.

Abstract: The collection of crash data that support the establishment and enforcement of motor vehicle regulations that reduce the severity of injury and property damage caused by motor vehicle crashes is authorized under the National Traffic and Motor Vehicle Safety Act of 1966 (Pub. L. 89-563, Title 1, Sec. 106, 108, and 112). The National Highway Traffic Safety Administration has been investigating motor vehicle traffic crashes and collecting crash data through its National Automotive Sampling System (NASS) Crashworthiness Data System (NASS-CDS) and Special Crash Investigation (SCI) programs. The NASS was designed in the 1970's to collect data from the originally planned 75 data collection sites. Due to demographic changes, the crash population has changed in the country. At the same time, the data needs of the transportation community have increased and significantly changed over the last three decades. For example, the primary focus of the original NASS design was to enhance crashworthiness by providing detailed information about crush damage, restraint system performance and injury mechanisms. In recent years, however, the transportation community has been increasingly more interested in adding data elements related to what happens before a crash and related crash avoidance safety countermeasures. The scope of traffic safety studies has also been expanding. More data is needed from crashes which are not currently included in NASS-CDS, such as those involving large trucks, motorcycles, and pedestrians.

Recognizing the importance as well as the limitations of the current NASS system, NHTSA is undertaking a modernization effort to upgrade our data systems by improving the information technology infrastructure, updating the data we collect and reexamining the sample sites. The goal of this overall modernization effort is to develop a new crash data system that meets current and future data needs. Several data acquisitions systems will be designed to collect record-based information and investigation-based information. The redesigned investigation-based acquisition process will focus on detailed investigation of passenger vehicle crashes and will be referred to as the Crash Investigation Sampling System (CISS).

For the investigation-based acquisition process, once a crash has been selected for investigation, crash technicians locate, visit, measure, and photograph the crash scene; locate, inspect, and photograph vehicles; conduct a telephone or personal interview with the involved individuals or surrogate; and obtain and record injury information received from various medical data sources. These data are used to describe and analyze circumstances, mechanisms, and consequences of high severity motor vehicle crashes in the United States. The collection of interview data aids in this effort.

Estimated Annual Burden: 5,605 hours.

Number of respondents: 9,450.

Terry T. Shelton,
Associate Administrator, National Center for Statistics and Analysis.

[FR Doc. 2014-10784 Filed 5-9-14; 8:45 am]

BILLING CODE 4910-59-P